DEPARTMENT OF HEALTH AND HUMAN SERVICES

Health Care Financing Administration

[Document Identifier: HCFA-10021]

Notice; Correction

ACTION: Notice; correction.

SUMMARY: In the Federal Register issue of Monday, March 26, 2001, make the following correction:

Correction: In the Federal Register issue of Monday, March 26, 2001, Volume 66: FR Doc. 01-7327, on page 16480,“Responses: 12,600” in the 16th line of the first full paragraph in column 2 should read “Responses: 12,600,000.”

Dated: March 28, 2001.
Julie Boughn,
Manager, HCFA Office of Information Services, Security and Standards Group, Division of HCFA Enterprise Standards.

[FR Doc. 01-8404 Filed 4-4-01; 8:45 am]

BILLING CODE 4120-03-P